DEPARTMENT OF THE INTERIOR

National Park Service

Notice of Inventory Completion: U.S. Department of the Interior, National Park Service, Grand Canyon National Park, Grand Canyon, AZ

AGENCY: National Park Service, Interior.

ACTION: Notice.

Notice is here given in accordance with the Native American Graves Protection and Repatriation Act (NAGPRA), 25 U.S.C. 3003, of the completion of an inventory of human remains in the possession of the U.S. Department of the Interior, National Park Service, Grand Canyon National Park, Grand Canyon, AZ. The human remains were removed from within the boundary of Grand Canyon National Park, Coconino and Mohave Counties, AZ.

This notice is published as part of the National Park Service's administrative responsibilities under NAGPRA, 25 U.S.C. 3003(d)(3). The determinations in this notice are the sole responsibility of the superintendent, Grand Canyon National Park.

A detailed assessment of the human remains was made by Grand Canyon National Park professional staff in consultation with representatives of the Havasupai Tribe of the Havasupai Reservation, Arizona; Hopi Tribe of Arizona; Hualapai Indian Tribe of the Hualapai Reservation, Arizona; Kaibab Band of Paiute Indians of the Kaibab Indian Reservation, Arizona; Las Vegas Tribe of Paiute Indians of the Las Vegas Indian Colony, Nevada; Moapa Band of Paiute Indians of the Moapa River Indian Reservation, Nevada; Navajo Nation, Arizona, New Mexico & Utah; Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes)); San Juan Southern Paiute Tribe of Arizona; Yavapai-Apache Nation of the Camp Verde Indian Reservation, Arizona; and Zuni Tribe of the Zuni Reservation, New Mexico.

In 1935, human remains representing a minimum of two individuals were removed from the Grand Canyon Village area in Coconino County, AZ. No known individuals were identified. No associated funerary objects are present.

Between 1954 and 1955, human remains representing a minimum of two individuals were removed from an unknown cave location in Coconino County, AZ. No known individuals were identified. No associated funerary objects are present.

Prior to 1958, human remains representing a minimum of one individual were removed from an unspecified location in Coconino or Mohave County, AZ. No known individual was identified. No associated funerary objects are present.

In 1962, human remains representing a minimum of one individual were removed from a ledge south of Bright Angel Trail in Coconino County, AZ. No known individual was identified. No associated funerary objects are present.

Prior to 1968, human remains representing a minimum of one individual were removed from an unspecified location in Coconino or Mohave County, AZ. No known individual was identified. No associated funerary objects are present.

At an unknown date, human remains representing a minimum of two individuals were removed from an unspecified location in Coconino or Mohave County, AZ. No known individuals were identified. No associated funerary objects are present.

Due to a lack of contextual information and evidence to support a precise cultural affiliation determination, the Native American human remains described above are determined to be “culturally unidentifiable” under NAGPRA.

Officials of Grand Canyon National Park have determined that, pursuant to 25 U.S.C. 3001(9), the human remains described above represent the physical remains of nine individuals of Native American ancestry. Lastly, officials of Grand Canyon National Park have determined that, pursuant to 25 U.S.C. 3001(2), a relationship of shared group identity cannot reasonably be traced between the Native American human remains and any present-day Indian tribe.

The Native American Graves Protection and Repatriation Review Committee (Review Committee) is responsible for recommending specific actions for disposition of culturally unidentifiable human remains. In July 2009, Grand Canyon National Park requested that the Review Committee recommend disposition of the nine culturally unidentifiable human remains to the Havasupai Tribe of the Havasupai Reservation, Arizona, because the human remains were found within the tribe's aboriginal and historical territory. The Review Committee considered the proposal at its October 30-31, 2009, meeting and recommended disposition of the human remains to the Havasupai Tribe of the Havasupai Reservation, Arizona.

A March 4, 2010, letter from the Designated Federal Officer, writing on behalf of the Secretary of the Interior, transmitted the authorization for the park to effect disposition of the physical remains of the culturally unidentifiable individuals to the Havasupai Tribe of the Havasupai Reservation, Arizona, contingent on the publication of a Notice of Inventory Completion in the Federal Register. This notice fulfills that requirement.

Representatives of any other Indian tribe that believes itself to be culturally affiliated with the human remains should contact Stephen P. Martin, Superintendent, Grand Canyon National Park, P.O. Box 129, Grand Canyon, AZ 86023, telephone (928) 638-7945, before July 1, 2010. Disposition of the human remains to the Havasupai Tribe of the Havasupai Reservation, Arizona, may proceed after that date if no additional claimants come forward.

Grand Canyon National Park is responsible for notifying the Havasupai Tribe of the Havasupai Reservation, Arizona; Hopi Tribe of Arizona; Hualapai Indian Tribe of the Hualapai Reservation, Arizona; Kaibab Band of Paiute Indians of the Kaibab Indian Reservation, Arizona; Las Vegas Tribe of Paiute Indians of the Las Vegas Indian Colony, Nevada; Moapa Band of Paiute Indians of the Moapa River Indian Reservation, Nevada; Navajo Nation, Arizona, New Mexico & Utah; Paiute Indian Tribe of Utah (Cedar Band of Paiutes, Kanosh Band of Paiutes, Koosharem Band of Paiutes, Indian Peaks Band of Paiutes, and Shivwits Band of Paiutes); San Juan Southern Paiute Tribe of Arizona; Yavapai-Apache Nation of the Camp Verde Indian Reservation, Arizona; and Zuni Tribe of the Zuni Reservation, New Mexico, that this notice has been published.

Dated: May 5, 2010
Sherry Hutt,
Manager, National NAGPRA Program.

[FR Doc. 2010-13057 Filed 5-28-10; 8:45 am]

BILLING CODE 4312-50-S